DEPARTMENT OF HEALTH AND HUMAN SERVICES

National Institutes of Health

Clinical Center; Amended Notice of Meeting

Notice is hereby given of a change in the meeting of the NIH Advisory Board for Clinical Research, March 31, 2008, 10 a.m. to March 31, 2008, 2 p.m., National Institutes of Health, Building 10, 10 Center Drive, Medical Board Room 2C116, Bethesda, MD 20892 which was published in the Federal Register on March 12, 2008, FR E8-4654.

There will not be a closed session for this meeting. The meeting is open to the public.

Dated: March 19, 2008.
Anna Snouffer,
Acting Director, Office of Federal Advisory Committee Policy.

[FR Doc. E8-6095 Filed 3-26-08; 8:45 am]

BILLING CODE 4140-01-M